DEPARTMENT OF HEALTH AND HUMAN SERVICES

Public Meeting of the President's Council on Bioethics on September 12-13, 2002

AGENCY: The President's Council on Bioethics, HHS.

ACTION: Notice.

SUMMARY: The President's Council on Bioethics will hold its sixth meeting, at which it will discuss, among other things, stem cells, cloning, the patentability of human organisms, commerce in the human body and its parts, genetic enhancement of human beings, and/or international models of regulation of the new biotechnologies (Europe).

DATES: The meeting will take place Thursday, September 12, 2002, from 8:30 a.m. to 4:45 p.m. ET; and Friday, September 13, 2002, from 8:30 a.m. to 12:15 p.m. ET.

ADDRESSES: Hotel Monaco, 700 F Street, NW., Washington, DC 20004

Public Comments: The meeting agenda will be posted at http://www.bioethics.gov. Members of the public may submit written statements for the Council's records. Please submit statements to Ms. Diane Gianelli, Director of Communications (tel. 202/296-4669 or e-mail info@bioethics.gov). The public may also express comments during the hour set aside for this purpose, beginning at 4:30 p.m. ET, on Thursday, September 12, 2002. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit http://www.bioethics.gov.

Dated: August 26, 2002.
Dean Clancy,
Executive Director, The President's Council on Bioethics.

[FR Doc. 02-22283 Filed 8-29-02; 8:45 am]

BILLING CODE 4150-24-P